NUCLEAR REGULATORY COMMISSION

[IA-02-022]

Ms. Patricia A. McGinn; Order Prohibiting Involvement in NRC-Licensed Activities (Effective Immediately)

From December 1995 to May 2000, Ms. Patricia A. McGinn was a Human Resources Coordinator for Cataract/RCM Technologies, Inc., (Cataract/RCM or Contractor) located at 2500 McClellan Avenue, Suite 350, Pennsauken, New Jersey 08109. Cataract/RCM was a contractor to facilities licensed by the Nuclear Regulatory Commission (NRC or Commission) pursuant to 10 CFR Part 50.

On September 29, 2000, the NRC's Office of Investigations (OI) initiated an investigation to determine whether Patricia A. McGinn, while employed by Cataract/RCM Technologies, Inc., deliberately falsified background information that was used to support the granting of unescorted access authorizations at Tennessee Valley Authority (TVA) and other NRC licensee facilities.

As background, 10 CFR 73.56, “Personnel access authorization requirements for nuclear power plants,” requires that background investigations be conducted prior to allowing unescorted access to protected and vital areas of nuclear power plants. At a minimum, a background investigation must verify an individual's true identity, and develop information concerning an individual's employment history, education history, credit history, criminal history, military service, and verify an individual's character and reputation.

The investigation determined that on January 6, 1998, TVA received the results of an employee's (Employee A) criminal history check from the Federal Bureau of Investigation (FBI) indicating that Employee A had prior misdemeanor charges. This information had not been highlighted or identified during the process conducted by Cataract/RCM to issue Employee A a temporary unescorted access authorization clearance. This process included documenting answers to criminal history questions from the employee that reasonably should have revealed the existence of the prior misdemeanor charges. No such history was documented in the records produced by Cataract/RCM. When confronted, Employee A indicated that he had not been questioned about his criminal history. Ms. McGinn, the Cataract/RCM Human Resources Coordinator at the time, claimed that the employee had been asked the questions, yet had not disclosed anything derogatory.

Subsequently, the TVA Office of the Inspector General (OIG) conducted an investigation. The TVA OIG investigation concluded that Ms. McGinn did not contact four of the five references for Employee A which she documented as having contacted. TVA OIG also concluded that Ms. McGinn had falsified information in Cataract/RCM's security files for three other individuals. TVA OIG determined from the background investigation files for three other individuals that documentation of reference checks existed for references who either did not exist, did not remember being contacted by Ms. McGinn, or did not make the statements attributed to them.

OI contacted 13 individuals whom Ms. McGinn reportedly contacted in the course of her background investigations for other licensees. These individuals denied knowing or providing the names given by the Human Resources Coordinator as developed references. Some questioned the responses attributed to them, stating that the information provided on the Cataract/RCM Reference Forms was, in part, inaccurate or incomplete.

OI subsequently interviewed Ms. McGinn. During that interview Ms. McGinn provided similar information as she did during the TVA OIG interview. Based on the interviews and records reviews discussed above, OI concluded she deliberately falsified Cataract/RCM background investigations, allowing unescorted access for numerous contractors at TVA and other NRC-licensed facilities.

Based on the above, the NRC has concluded that Ms. McGinn's actions constitute a violation of 10 CFR 50.5(a)(2), which prohibits an individual from deliberately submitting to the NRC, a licensee, or a licensee's contractor, information that the person submitting the information knows to be incomplete or inaccurate in some respect material to the NRC. The inaccurate information was material in that it was relied upon to grant unescorted access to individuals who potentially could have presented a security threat to nuclear power plants.

Ms. McGinn's actions in deliberately falsifying information relating to numerous background investigations, and her unresponsiveness to the NRC, have raised serious doubt as to whether she can be relied upon to comply with NRC requirements.

Consequently, I lack the requisite reasonable assurance that licensed activities can be conducted in compliance with the Commission's requirements and that the health and safety of the public will be protected if Ms. McGinn were permitted at this time to be involved in NRC licensed activities. Therefore, the public health, safety and interest require that Ms. McGinn be prohibited from any involvement in NRC-licensed activities for a period of three years from the date of this Order. Additionally, Ms. McGinn is required to notify the NRC of her first employment in NRC-licensed activities at any time following the prohibition period. Furthermore, pursuant to 10 CFR 2.202, I find that the deliberate nature of Ms. Patricia A. McGinn's conduct described above, in a sensitive area like nuclear security, is such that the public health, safety and interest require that this Order be immediately effective.

Accordingly, pursuant to Sections 53, 103, 161b, 161i, 161o, 182 and 186 of the Atomic Energy Act of 1954, as amended, and the Commission's regulations in 10 CFR 2.202, 10 CFR 50.5, and 10 CFR 150.20, it is hereby ordered, effective immediately, that:

1. Ms. Patricia A. McGinn is prohibited for three years from the date of this Order from engaging in NRC-licensed activities. NRC-licensed activities are those activities that are conducted pursuant to a specific or general license issued by the NRC, including, but not limited to, those activities of Agreement State licensees conducted pursuant to the authority granted by 10 CFR 150.20.

2. If Ms. Patricia A. McGinn is currently involved with another licensee in NRC-licensed activities, she must immediately cease those activities, and inform the NRC of the name, address and telephone number of the employer, and provide a copy of this order to the employer.

3. At any time after the three year period of prohibition has expired, Ms. Patricia A. McGinn shall, within 20 days of acceptance of her first employment offer involving NRC-licensed activities or her becoming involved in NRC-licensed activities, as defined in Paragraph IV.1 above, provide notice to the Director, Office of Enforcement, U.S. Nuclear Regulatory Commission, Washington, DC 20555, of the name, address, and telephone number of the employer or the entity where she is, or will be, involved in the NRC-licensed activities. In the notification, Ms. McGinn shall include a statement of her commitment to compliance with regulatory requirements and the basis why the Commission should have confidence that she will now comply with applicable NRC requirements.

The Director, Office of Enforcement, may, in writing, relax or rescind any of the above conditions upon demonstration by Ms. Patricia A. McGinn of good cause.

In accordance with 10 CFR 2.202, Ms. Patricia A. McGinn must, and any other person adversely affected by this Order may, submit an answer to this Order, and may request a hearing on this Order, within 20 days of the date of this Order. Where good cause is shown, consideration will be given to extending the time to request a hearing. A request for extension of time must be made in writing to the Director, Office of Enforcement, U.S. Nuclear Regulatory Commission, Washington, DC 20555, and include a statement of good cause for the extension. The answer may consent to this Order. Unless the answer consents to this Order, the answer shall, in writing and under oath or affirmation, specifically admit or deny each allegation or charge made in this Order and shall set forth the matters of fact and law on which Ms. Patricia A. McGinn or other person adversely affected relies and the reasons as to why the Order should not have been issued. Any answer or request for a hearing shall be submitted to the Secretary, U.S. Nuclear Regulatory Commission, Attn: Rulemakings and Adjudications Staff, Washington, DC 20555. Copies also shall be sent to the Director, Office of Enforcement, U.S. Nuclear Regulatory Commission, Washington, DC 20555, to the Assistant General Counsel for Materials Litigation and Enforcement at the same address, to the Regional Administrator, NRC Region II, 61 Forsyth St. SW, Suite 23T85, Atlanta, GA 30303-8931, and to Ms. Patricia A. McGinn if the answer or hearing request is by a person other than Ms. Patricia A. McGinn. Because of continuing disruptions in delivery of mail to United States Government offices, it is requested that answers and requests for hearing be transmitted to the Secretary of the Commission either by means of facsimile transmission to 301-415-1101 or by e-mail to hearingdocket@nrc.gov and also to the Office of the General Counsel either by means of facsimile transmission to 301-415-3725 or by e-mail to OGCMailCenter@nrc.gov. If a person other than Ms. Patricia A. McGinn requests a hearing, that person shall set forth with particularity the manner in which his or her interest is adversely affected by this Order and shall address the criteria set forth in 10 CFR 2.714(d).¹

¹ The most recent version of Title 10 of the Code of Federal Regulations, published January 1, 2002, inadvertently omitted the last sentence of 10 CFR 2.714 (d) and paragraphs (d)(1) and (d)(2) regarding petitions to intervene and contentions. For the complete, corrected text of 10 CFR 2.714 (d), please see 67 FR 20884; April 29, 2002.

If a hearing is requested by Ms. Patricia A. McGinn or a person whose interest is adversely affected, the Commission will issue an Order designating the time and place of any hearing. If a hearing is held, the issue to be considered at such hearing shall be whether this Order should be sustained.

Pursuant to 10 CFR 2.202(c)(2)(i), Ms. Patricia A. McGinn, may, in addition to demanding a hearing, at the time the answer is filed or sooner, move the presiding officer to set aside the immediate effectiveness of the Order on the ground that the Order, including the need for immediate effectiveness, is not based on adequate evidence but on mere suspicion, unfounded allegations, or error.

In the absence of any request for hearing, or written approval of an extension of time in which to request a hearing, the provisions specified in Section IV above shall be effective and final 20 days from the date of this Order without further order or proceedings. If an extension of time for requesting a hearing has been approved, the provisions specified in Section IV shall be final when the extension expires if a hearing request has not been received. An answer or a request for hearing shall not stay the immediate effectiveness of this order.

Dated this 31st day of October 2002.
For the Nuclear Regulatory Commission.
William F. Kane,
Deputy Executive Director for Reactor Programs.

[FR Doc. 02-28482 Filed 11-7-02; 8:45 am]

BILLING CODE 7590-01-P